DEPARTMENT OF ENERGY

National Nuclear Security Administration

Los Alamos Site Office Notice of Floodplain and Wetlands Involvement for Two Monitoring Wells at Los Alamos National Laboratory, Los Alamos, NM

AGENCY: National Nuclear Security Administration, Los Alamos Site Office, DOE.

ACTION: Notice of floodplains and wetlands involvement.

SUMMARY: The Los Alamos Site office of the National Nuclear Security Administration (NNSA), United States Department of Energy (DOE) plans to install and operate two groundwater monitoring wells within two separate canyon floodplain locations. Monitoring well CdV-16-1 (i) would be located within Los Alamos National Laboratory (LANL) in Canyon del Valle (see Figure 1), and monitoring well R-2 would be located near the LANL boundary within the Incorporated County of Los Alamos in Pueblo Canyon (see Figure 2). The installation process for the wells will include the placement of small cement pads around the wells, along with a gravel-covered area, and road improvements, culverts and erosion control materials and mechanisms as needed. The wells would be operated and monitored periodically after installation was completed. In accordance with 10 CFR Part 1022, DOE has prepared a floodplain/wetland assessment and will perform this proposed action in a manner so as to avoid or minimize potential harm to or within the affected floodplains.

DATES: Comments are due to the address below no later than August 5, 2003.

ADDRESSES: Written comments should be addressed to: Elizabeth Withers, Department of Energy, National Nuclear Security Administration, Los Alamos Site Office, 528 35th Street, Los Alamos, NM 87544, or submit them to the Mail Room at the above address between the hours of 8 a.m. and 4:30 p.m., Monday through Friday. Written comments may also be sent electronically to: ewithers@doeal.gov or by facsimile to (505) 667-9998.

FOR FURTHER INFORMATION CONTACT: Robert Enz, Department of Energy, National Nuclear Security Administration, Los Alamos Site Office, 528 35th Street, Los Alamos, NM 87544. Telephone (505) 667-7640, facsimile (505) 667-9998.

For Further Information on General DOE Floodplain Environmental Review Requirements, contact: Carol M. Borgstrom, Director, Office of NEPA Policy and Compliance, EH-42, Department of Energy, 1000 Independence Avenue, SW., Washington DC 20585-0119. Telephone (202) 586-4600 or (800) 472-2756, facsimile (202) 586-7031.

SUPPLEMENTARY INFORMATION: The DOE is installing a network of monitoring wells around and within LANL to characterize the hydrogeological setting of the Pajarito Plateau. These monitoring wells will be installed at varying depths and used to provide information on the groundwater aquifers present and to monitor various characteristics of the aquifers over time. The two subject monitoring wells would be installed in canyon-bottom settings chosen by the New Mexico Environment Department, which is the local regulator for water quality appointed by the Environmental Protection Agency.

In accordance with DOE regulations for compliance with floodplain and wetlands environmental review requirements (10 CFR Part 1022), NNSA has prepared a floodplain/wetland assessment for this action, which is available by contacting Elizabeth Withers at the previously identified addresses, phone and facsimile numbers. The floodplain/wetland assessment is available for review at the DOE Reading Room at the Los Alamos Outreach Center, 1619 Central Avenue, Los Alamos, NM 87854; and the DOE Reading Room at the Zimmerman Library, University of New Mexico, Albuquerque, NM 87131. The NNSA will publish a floodplain statement of findings for this project in the Federal Register no sooner than August 5, 2003.

Issued in Los Alamos, NM on July 7, 2003.
E. Dennis Martinez,
Acting Manager, Department of Energy, National Nuclear Security Administration, Los Alamos Site Office.

BILLING CODE 6450-01-P

[FR Doc. 03-18099 Filed 7-18-03; 8:45 am]

BILLING CODE 6450-01-C